DEPARTMENT OF HEALTH AND HUMAN SERVICES

Food and Drug Administration

[Docket No. 2004D-0027]

Draft Guidance for Industry on Time and Extent Applications; Availability; Correction

AGENCY: Food and Drug Administration, HHS.

ACTION: Notice; correction.

SUMMARY: The Food and Drug Administration (FDA) is correcting a document that appeared in the Federal Register of February 10, 2004 (69 FR 6309). The document announced the availability of a draft guidance for industry entitled “Time and Extent Applications.” The document was published with an incorrect docket number. This document corrects that error.

FOR FURTHER INFORMATION CONTACT: Joyce A. Strong, Office of the Commissioner (HF-27), Food and Drug Administration, 5600 Fishers Lane, Rockville, MD 20857, 301-827-7010.

SUPPLEMENTARY INFORMATION: In FR Doc. 04-2729, appearing on page 6309 in the Federal Register of Tuesday, February 10, 2004, the following correction is made:

1. On page 6309, the docket number in the heading of the document is corrected to read “[Docket No. 2004D-0027].”

Dated: February 19, 2004.
Jeffrey Shuren,
Assistant Commissioner for Policy.

[FR Doc. 04-4311 Filed 2-26-04; 8:45 am]

BILLING CODE 4160-01-S